DEPARTMENT OF ENERGY

Federal Energy Regulatory Commission

[Project No. 2079-069]

Middle Fork American River Project; Notice of Availability of the Final Environmental Impact Statement for the Middle Fork American River Hydrolectric Project

In accordance with the National Environmental Policy Act of 1969 and the Federal Energy Regulatory Commission (Commission or FERC) regulations contained in the Code of Federal Regulations (CFR)(18 CFR part 380 [FERC Order No. 486, 52 FR 47897]), the Office of Energy Projects has reviewed the application for license for the Middle Fork American River Hydroelectric Project (FERC No. 2079), located on the Middle Fork of the American and Rubicon Rivers and Duncan and North and South Fork Long Canyon Creeks in Placer and El Dorado Counties, California, and has prepared a final environmental impact statement (EIS) for the project. The project occupies 3,268 acres of federal lands administered by the U.S. Department of Agriculture—Forest Service.

The final EIS contains staff's analysis of the applicant's proposal and the alternatives for relicensing the Middle Fork American River Hydroelectric Project. The final EIS documents the views of governmental agencies, non-governmental organizations, affected Indian tribes, the public, the license applicant, and Commission staff.

A copy of the final EIS is available for review at the Commission or may be viewed on the Commission's Web site at http://www.ferc.gov, using the “e-Library” link. Enter the docket number, excluding the last three digits, to access the document. For assistance, contact FERC Online Support at FERCOnlineSupport@ferc.gov or toll-free at (866)208-3676, or for TTY, contact (202)502-8659.

You may also register online at http://www.ferc.gov/docs-filing/esubscription.asp to be notified via email of new filings and issuances related to this or other pending projects. For assistance, contact FERC Online Support.

For further information, please contact Matt Buhyoff at (202) 502-6824 or at matt.buhyoff@ferc.gov.

Dated: February 22, 2013.
Kimberly D. Bose,
Secretary.

[FR Doc. 2013-04664 Filed 2-27-13; 8:45 am]

BILLING CODE 6717-01-P